DEPARTMENT OF THE INTERIOR

Bureau of Land Management

[NMNM 109118]

Public Land Order No. 7591; Withdrawal of Lands for the Federal Law Enforcement Training Center; New Mexico

AGENCY: Bureau of Land Management, Interior.

ACTION: Public land order.

SUMMARY: This order withdraws 1,920.80 acres of lands from location and entry under the United States mining laws, for a period of 20 years, for protection, operation and maintenance of the Department of Homeland Security's Federal Law Enforcement Training Center.

EFFECTIVE DATE: November 20, 2003.

FOR FURTHER INFORMATION CONTACT: Russ Sorensen, BLM Carlsbad Field Office, 620 East Greene, Carlsbad, New Mexico 88220, (505) 234-5963.

Order

By virtue of the authority vested in the Secretary of the Interior by section 204 of the Federal Land Policy and Management Act of 1976, 43 U.S.C. 1714 (2000), it is ordered as follows:

1. Subject to valid existing rights, the following described lands are hereby withdrawn from location and entry under the United States mining laws, 30 U.S.C. Ch. 2 (2000), for the Department of Homeland Security to protect, operate, and maintain their Federal Law Enforcement Training Center:

New Mexico Principal Meridian

T. 16 S., R. 25 E.,

Sec. 27;

Sec. 28, E½E½;

Sec. 33, E½NE¼ and SE¼;

Sec. 34, NW¼ and SW¼;

Sec. 35, S½S½.

T. 17 S., R. 25 E.,

Sec. 3, lots 3 and 4, S½NW¼, and N½N½S½;

Sec. 4, lots 1 and 2, and S½NE¼.

The areas described aggregate 1,920.80 acres in Eddy County.

2. This withdrawal will expire 20 years from the effective date of this order unless, as a result of a review conducted before the expiration date pursuant to section 204(f) of the Federal Land Policy and Management Act of 1976, 43 U.S.C. 1714(f) (2000), the Secretary determines that the withdrawal shall be extended.

Dated: October 30, 2003.
Rebecca W. Watson,
Assistant Secretary—Land and Minerals Management.

[FR Doc. 03-28965 Filed 11-19-03; 8:45 am]

BILLING CODE 4810-32-P